DEPARTMENT OF COMMERCE

National Oceanic and Atmospheric Administration

[I.D. 110501E]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene a public meeting of the Socioeconomic Panel (SEP).

DATES: A meeting of the SEP will be held beginning at 8:30 a.m. on Wednesday, November 28, 2001, and will conclude at 4 p.m. on Thursday, November 29, 2001.

ADDRESSES: The meeting will be held at the Tampa Airport Hilton Hotel, 2225 Lois Avenue, Tampa, FL 33607; telephone: 813-877-6688.

Council address: Gulf of Mexico Fishery Management Council, 3018 U.S. Highway 301 North, Suite 1000, Tampa, FL 33619.

FOR FURTHER INFORMATION CONTACT: Antonio B. Lamberte, Economist; telephone: 813-228-2815.

SUPPLEMENTARY INFORMATION: The SEP will convene to review available social and economic information on gag, vermilion snapper, and gray triggerfish and to determine the social and economic implications of the levels of acceptable biological catch (ABC) recommended by the Council’s Reef Fish Stock Assessment Panel (RFSAP). The SEP may recommend to the Council total allowable catch (TAC) levels for the 2002 fishing year and certain management measures associated with achieving the TACs. Assessments for mackerel and cobia will also be reviewed by the SEP. In addition, the SEP will review a charterboat/headboat study and hear a presentation on a recently completed study on fishing communities.

Composing the SEP membership are economists, sociologists, and anthropologists from various universities and state fishery agencies throughout the Gulf. They advise the Council on the social and economic implications of certain fishery management measures.

Although other non-emergency issues not on the agendas may come before the SEP for discussion, in accordance with the Magnuson-Stevens Fishery Conservation and Management Act, those issues may not be the subject of formal action during these meetings. Actions of the SEP will be restricted to those issues specifically identified in the agendas and any issues arising after publication of this notice that require emergency action under Section 305 (c) of the Magnuson-Stevens Act, provided the public has been notified of the Council's intent to take action to address the emergency.

A copy of the agenda can be obtained by calling 813-228-2815.

Special Accommodations

The meeting is open to the public and is physically accessible to people with disabilities. Requests for sign language interpretation or other auxiliary aids should be directed to the Council office by November 21, 2001.

Dated: November 6, 2001.
Richard W. Surdi,
Acting Director, Office of Sustainable Fisheries, National Marine Fisheries Service.

[FR Doc. 01-28235 Filed 11-8-01; 8:45 am]

BILLING CODE 3510-22-S